DEPARTMENT OF COMMERCE

International Trade Administration

Agency Information Collection Activities; Submission to the Office of Management and Budget (OMB) for Review and Approval; Comment Request; Swiss-U.S. Privacy Shield; Invitation for Applications for Inclusion on the Supplemental List of Arbitrators

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on July 28, 2021 during a 60-day comment period. This notice allows for an additional 30 days for public comments.

Agency: International Trade Administration, Department of Commerce.

Title: Swiss-U.S. Privacy Shield; Invitation for Applications for Inclusion on the Supplemental List of Arbitrators.

OMB Control Number: 0625-0278.

Form Number(s): None.

Type of Request: Extension of a current information collection.

Number of Respondents: 20.

Average Hours per Response: 240 minutes.

Burden Hours: 80 hours.

Needs and Uses: As described in Annex I of the Swiss-U.S. Privacy Shield Framework, the Department of Commerce (the Department) and the Swiss Administration committed to implement an arbitration mechanism to provide Swiss individuals with the ability to invoke binding arbitration to determine, for residual claims, whether an organization has violated its obligations under the Privacy Shield. Organizations voluntarily self-certify to the Swiss-U.S. Privacy Shield Framework and, upon certification, the commitments the organization has made to comply with the Swiss-U.S. Privacy Shield Framework become legally enforceable under U.S. law. Organizations that self-certify to the Swiss-U.S. Privacy Shield Framework commit to binding arbitration of residual claims if a Swiss individual chooses to exercise that option. Under the arbitration option, a Privacy Shield Panel (consisting of one or three arbitrators, as agreed by the parties) has the authority to impose individual-specific, non-monetary equitable relief (such as access, correction, deletion, or return of the Swiss individual's data in question) necessary to remedy the violation of the Swiss-U.S. Privacy Shield Framework only with respect to the individual. The Department and the Swiss Administration will seek to maintain a list of up to five arbitrators chosen on the basis of independence, integrity, and expertise from which the parties will select the arbitrators, which will supplement the list of arbitrators developed under the EU-U.S. Privacy Shield Framework. The arbitral mechanism outlined in Annex I of the EU-U.S. Privacy Shield Framework and Swiss-U.S. Privacy Shield Framework is a critical component of the Privacy Shield frameworks. Publishing this notice to collect information from individuals applying for inclusion on the list of arbitrators is a necessary step to maintain the arbitral mechanism. The Department previously requested and obtained approval of this information collection (OMB Control No. 0625-0278) and now seeks renewal of this information collection. Although the Department is not currently seeking additional applications, it may do so in the future as appropriate.

Affected Public: Private individuals.

Frequency: Recurrent, depending on the number of arbitrators required to retain an active list of 5 arbitrators.

Respondent's Obligation: Required to obtain or retain benefits.

Legal Authority: The Department's statutory authority to foster, promote, and develop the foreign and domestic commerce of the United States (15 U.S.C. 1512).

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0625-0278.

Sheleen Dumas,
Department PRA Clearance Officer, Office of the Chief Information Officer, Commerce Department.

[FR Doc. 2021-22235 Filed 10-12-21; 8:45 am]

BILLING CODE 3510-DS-P